DEPARTMENT OF TRANSPORTATION

Federal Aviation Administration

14 CFR Part 39

[Docket No. 2001-NM-32-AD; Amendment 39-12154; AD 2001-06-07]

RIN 2120-AA64

Airworthiness Directives; Bombardier Model CL-600-2B19 Series Airplanes

AGENCY: Federal Aviation Administration, DOT.

ACTION: Final rule; request for comments.

SUMMARY: This amendment adopts a new airworthiness directive (AD) that is applicable to certain Bombardier Model CL-600-2B19 series airplanes. This action requires a one-time inspection to find chafing or damage of the integrated drive generator cables of the cable harness assembly of the engines, and follow-on actions. This action is necessary to prevent such chafing or damage, which could result in electrical arcing between the cable and an engine cowl door, creating a possible ignition source and consequent fire and/or loss of electrical power on the airplane. This action is intended to address the identified unsafe condition.

DATES: Effective April 9, 2001.

The incorporation by reference of certain publications listed in the regulations is approved by the Director of the Federal Register as of April 9, 2001.

Comments for inclusion in the Rules Docket must be received on or before April 23, 2001.

ADDRESSES: Submit comments in triplicate to the Federal Aviation Administration (FAA), Transport Airplane Directorate, ANM-114, Attention: Rules Docket No. 2001-NM-32-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via the Internet must contain “Docket No. 2001-NM-32-AD” in the subject line and need not be submitted in triplicate. Comments sent via fax or the Internet as attached electronic files must be formatted in Microsoft Word 97 for Windows or ASCII text.

The service information referenced in this AD may be obtained from Bombardier, Inc., Canadair, Aerospace Group, P.O. Box 6087, Station Centre-ville, Montreal, Quebec H3C 3G9, Canada. This information may be examined at the FAA, Transport Airplane Directorate, 1601 Lind Avenue, SW., Renton, Washington; or at the FAA, New York Aircraft Certification Office, 10 Fifth Street, Third Floor, Valley Stream, New York.

FOR FURTHER INFORMATION CONTACT: Luciano Castracane, Aerospace Engineer, ANE-172, FAA, New York Aircraft Certification Office, 10 Fifth Street, Third Floor, Valley Stream, New York 11581; telephone (516) 256-7535; fax (516) 568-2716.

SUPPLEMENTARY INFORMATION: Transport Canada Civil Aviation (TCCA), which is the airworthiness authority for Canada, recently notified the FAA that an unsafe condition may exist on certain Bombardier Model CL-600-2B19 series airplanes. TCCA advises that electrical arcing between the integrated drive generator (IDG) cable and an engine cowl door has been reported. Such arcing has been attributed to chafing of the IDG cable against the structure and engine cowl doors, due to wear. This condition, if not corrected, could result in a possible ignition source and consequent fire and/or loss of electrical power on the airplane.

Explanation of Relevant Service Information

The manufacturer has issued Bombardier Alert Service Bulletin A601R-24-103, Revision B, dated January 26, 2001, which describes procedures for the following:

• Part A of the Accomplishment Instructions: A visual inspection to find chafing or damage of the IDG cables between the service pylon connections to the cable harness assembly of the left and right engines, and follow-on actions (below).

• Part B of the Accomplishment Instructions: Installation of a protective conduit on the IDG cable harness assembly if there is no damage found or if there is damage to the outer core of the cable only.

• Part C of the Accomplishment Instructions: Replacement of damaged (inner core damage, or damaged/broken conductor strands) IDG cables with new cables.

Accomplishment of the actions specified in the service bulletin is intended to adequately address the identified unsafe condition. The TCCA classified this service bulletin as mandatory and issued Canadian airworthiness directive CF-2001-02, dated January 17, 2001, in order to assure the continued airworthiness of these airplanes in Canada.

FAA's Conclusions

This airplane model is manufactured in Canada and is type certificated for operation in the United States under the provisions of § 21.29 of the Federal Aviation Regulations (14 CFR 21.29) and the applicable bilateral airworthiness agreement. Pursuant to this bilateral airworthiness agreement, TCCA has kept the FAA informed of the situation described above. The FAA has examined the findings of the TCCA, reviewed all available information, and determined that AD action is necessary for products of this type design that are certificated for operation in the United States.

Explanation of Requirements of Rule

Since an unsafe condition has been identified that is likely to exist or develop on other airplanes of the same type design registered in the United States, this AD is being issued to prevent chafing or damage of the IDG cables, which could result in electrical arcing between the cable and an engine cowl door, creating a possible ignition source and consequent fire and/or loss of electrical power on the airplane. This AD requires a one-time general visual inspection to find chafing or damage of the IDG cables between the service pylon connections to the cable harness assembly of the engines, and follow-on actions. The actions are required to be accomplished per the service bulletin described previously.

Determination of Rule's Effective Date

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2001-NM-32-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-06-07 Bombardier, Inc. (Formerly Canadair): Amendment 39-12154. Docket 2001-NM-32-AD.

Applicability: Model CL-600-2B19 series airplanes, serial numbers 7003 through 7462 inclusive; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance per paragraph (d) of this AD. The request should include an assessment of the effect of the modification, alteration, or repair on the unsafe condition addressed by this AD; and, if the unsafe condition has not been eliminated, the request should include specific proposed actions to address it.

Compliance: Required as indicated, unless done previously.

To prevent chafing or damage of the integrated drive generator (IDG) cables of the cable harness assembly of the engines, which could result in electrical arcing between the cable and an engine cowl door, creating a possible ignition source and consequent fire and/or loss of electrical power on the airplane; do the following:

Inspection/Repair/Replacement

(a) Within 50 flight hours after the effective date of this AD: Do a one-time general visual inspection of the IDG cables between the service pylon connections to the cable harness assembly of the left and right engines to find chafing or damage, per Part A of the Accomplishment Instructions of Bombardier Alert Service Bulletin A601R-24-103, Revision B, dated January 26, 2001.

Note 2: For the purposes of this AD, a general visual inspection is defined as “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

(1) If no chafing or damage to any cable is found, do the installation required by paragraph (b) of this AD at the time specified.

(2) If chafing or damage is found on the outer core of any cable, and the inner core of the cable is not damaged, before further flight, repair per Part A, or replace per Part C of the Accomplishment Instructions of the service bulletin.

(3) If any damaged cable (inner core damage, or damaged/broken conductor strands) is found, before further flight, replace with a new cable per part C of the Accomplishment Instructions of the service bulletin.

Installation of Protective Conduit

(b) If no chafing or damage of any IDG cable is found, or there is outer core damage to the cable only, within 550 flight hours after doing paragraph (a) of this AD: Install a protective conduit on the IDG cable harness assembly per Part B of the Accomplishment Instructions of Bombardier Alert Service Bulletin A601R-24-103, Revision B, dated January 26, 2001.

Note 3: Inspections, repairs, or replacements done before the effective date of this AD per Bombardier Alert Service Bulletin A601R-24-103, dated December 28, 2000, or Revision A, dated January 18, 2001; are considered acceptable for compliance with the applicable actions specified in this AD.

Reporting Requirement

(c) Within 30 days after doing the inspection required by paragraph (a) of this AD: Submit a report of any findings of chafing or damage to Bombardier, Inc., Canadair, Aerospace Group, P.O. Box 6087, Station Centre-ville, Montreal, Quebec H3C 3G9, Canada. Information collection requirements contained in this regulation have been approved by the Office of Management and Budget (OMB) under the provisions of the Paperwork Reduction Act of 1980 (44 U.S.C. 3501 et seq.) and have been assigned OMB Control Number 2120-0056.

Alternative Methods of Compliance

(d) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 4: Information concerning the existence of approved alternative methods of compliance with this AD, if any, may be obtained from the New York ACO.

Special Flight Permits

(e) Special flight permits may be issued per §§ 21.197 and 21.199 of the Federal Aviation Regulations (14 CFR 21.197 and 21.199) to operate the airplane to a location where the requirements of this AD can be accomplished.

Incorporation by Reference

(f) The actions shall be done per Bombardier Alert Service Bulletin A601R-24-103, Revision B, dated January 26, 2001. This incorporation by reference was approved by the Director of the Federal Register per 5 U.S.C. 552(a) and 1 CFR part 51. Copies may be obtained from Bombardier, Inc., Canadair, Aerospace Group, P.O. Box 6087, Station Centre-ville, Montreal, Quebec H3C 3G9, Canada. Copies may be inspected at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

Note 5: The subject of this AD is addressed in Canadian airworthiness directive CF-2001-02, dated January 17, 2001.

Effective Date

(g) This amendment becomes effective on April 9, 2001.

Issued in Renton, Washington, on March 13, 2001.
Donald L. Riggin,
Acting Manager, Transport Airplane Directorate, Aircraft Certification Service.

[FR Doc. 01-6788 Filed 3-22-01; 8:45 am]

BILLING CODE 4910-13-U